DEPARTMENT OF ENERGY

Federal Energy Regulatory Commission

Combined Notice of Filings #2

Take notice that the Commission received the following electric corporate filings:

Docket Numbers: EC12-39-000.

Applicants: Choctaw Gas Generation, LLC, Quantum Choctaw Power, LLC.

Description: Application For Authorization Under Section 203 Of The Federal Power Act And Request For Confidential Treatment And Waivers And For Expedited Action of Choctaw Gas Generation, LLC and Quantum Choctaw Power, LLC.

Filed Date: 11/22/11.

Accession Number: 20111122-5043.

Comments Due: 5 p.m. ET 12/13/11.

Take notice that the Commission received the following electric rate filings:

Docket Numbers: ER12-186-001.

Applicants: PNE Energy Supply, LLC.

Description: Amended Tariff Filing to be effective 1/30/2012.

Filed Date: 11/22/11.

Accession Number: 20111122-5052.

Comments Due: 5 p.m. ET 12/13/11.

Docket Numbers: ER12-460-000.

Applicants: CPV Liberty, LLC.

Description: Notice of Cancellation of Market-Based Rate Tariff to be effective 11/24/2011.

Filed Date: 11/22/11.

Accession Number: 20111122-5050.

Comments Due: 5 p.m. ET 12/13/11.

Docket Numbers: ER12-461-000.

Applicants: Southwestern Electric Power Company.

Description: 20111122 NTEC Amended PSA to be effective 12/17/2010.

Filed Date: 11/22/11.

Accession Number: 20111122-5066.

Comments Due: 5 p.m. ET 12/13/11.

Docket Numbers: ER12-462-000.

Applicants: California Independent System Operator Corporation.

Description: California Independent System Operator Corporation submits tariff filing per 35.13(a)(2)(iii: 2011-11-22 CAISO SCA with Bonneville Power Administration to be effective 11/25/2011.

Filed Date: 11/22/11.

Accession Number: 20111122-5102.

Comments Due: 5 p.m. ET 12/13/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2011.
Nathaniel J. Davis, Sr.,
Deputy Secretary.

[FR Doc. 2011-31027 Filed 12-1-11; 8:45 am]

BILLING CODE 6717-01-P